DEPARTMENT OF HOMELAND SECURITY

Coast Guard

33 CFR Part 165

[Docket No. USCG-2015-0854]

Special Local Regulations and Safety Zones; Recurring Marine Events and Fireworks Displays Within the Fifth Coast Guard District

AGENCY: Coast Guard, DHS.

ACTION: Notice of enforcement of regulation.

SUMMARY: The Coast Guard will enforce a safety zone for the National Cherry Blossom Festival fireworks display taking place over the Washington Channel, Washington, DC, on April 15, 2017. The safety zone will include all waters within a 100 yard radius of the fireworks barge in approximate position latitude 38°52′43.67″ N., longitude 077°01′28.39″ W. This date and location is a change to those listed for the annually scheduled event, as indicated in U.S. Coast Guard regulations, because the event sponsor changed the scheduled date and location of this annual fireworks display. During the enforcement period, vessels may not enter, remain in, or transit through the safety zone unless authorized by the Captain of the Port or designated Coast Guard patrol personnel on scene. This action is necessary to ensure safety of life on navigable waters during the event.

DATES: The regulations in 33 CFR 165.506, listed as event (b.) 1, Washington Channel, Upper Potomac River, Washington, DC; Safety Zone, in the table to 33 CFR 165.506 will be enforced from 7:30 p.m. to 9:30 p.m. on April 15, 2017; and in the case of inclement weather enforcement will be from 7:30 p.m. to 9:30 p.m. on April 16, 2017.

FOR FURTHER INFORMATION CONTACT: If you have questions about this notice of enforcement, call or email Mr. Ron Houck, U.S. Coast Guard Sector Maryland-National Capital Region (WWM Division); telephone 410-576-2674, email Ronald.L.Houck@uscg.mil.

SUPPLEMENTARY INFORMATION: On February 22, 2017, and March 8, 2017, the Coast Guard was notified by the National Cherry Blossom Festival firework display sponsor that a change of date and location was necessary to those previously listed for the annually scheduled event, as indicated in 33 CFR 165.506. The location of the annual fireworks display is changed to approximately 550 yards upstream and its size is reduced, to include all waters of the Washington Channel within 100 yards radius of the fireworks barge in approximate position latitude 38°52′43.67″ N., longitude 077°01′28.39″ W., located in Washington, DC. The Coast Guard will enforce the safety zone in 33 CFR 165.506 from 7:30 p.m. until 9:30 p.m. on April 15, 2017, for the National Cherry Blossom Festival fireworks display. This action is being taken to provide for the safety of life on navigable waterways during this event. Our regulation for Recurring Marine Events and Fireworks Displays within the Fifth Coast Guard District, § 165.506, specifies the location of the regulated area for this safety zone as a circular shaped area that includes all waters of the Upper Potomac River, within 170 yard radius of the fireworks barge in approximate position latitude 38°52′20.3″ N., longitude 077°01′17.5″ W., located within the Washington Channel, at Washington Harbor, DC. As specified in § 165.506(d), during the enforcement period, vessels may not enter, remain in, or transit through the safety zone unless authorized by the Coast Guard Captain of the Port (COTP) or designated Coast Guard patrol personnel on scene. All persons and vessels shall comply with the instructions of the COTP, Coast Guard Patrol Commander or the designated on-scene-patrol personnel. Other Federal, State and local agencies may assist these personnel in the enforcement of the safety zone. If the COTP or his designated on-scene patrol personnel determines the regulated area need not be enforced for the full duration stated in this notice, a Broadcast Notice to Mariners may be used to grant general permission to enter the regulated area.

This notice of enforcement is issued under authority of 33 CFR 165.506(d) and 5 U.S.C. 552(a). In addition to this notice of enforcement in the Federal Register, the Coast Guard will provide notification of this enforcement period via the Local Notice to Mariners and marine information broadcasts.

Dated: March 30, 2017.
Lonnie P. Harrison, Jr.,
Captain, U.S. Coast Guard, Captain of the Port Maryland-National Capital Region.

[FR Doc. 2017-06696 Filed 4-4-17; 8:45 am]

BILLING CODE 9110-04-P